DEPARTMENT OF THE INTERIOR

National Park Service

[NPS-WASO-D-COS-POL-33139; PPWODIREP0; PPMPSPD1Y.YM0000]

Advisory Committee on Reconciliation in Place Names Establishment; Request for Nominations

AGENCY: National Park Service, Interior.

ACTION: Notice.

SUMMARY: The U.S. Department of the Interior (Department) is establishing and seeking nominations for the Advisory Committee on Reconciliation in Place Names (Committee). The Committee will identify geographic names and Federal land unit names that are considered derogatory and solicit proposals on replacement names.

DATES: Nominations for the Committee must be submitted by February 24, 2022.

ADDRESSES: Nominations should be emailed to Joshua Winchell, Office of Policy, National Park Service, at joshua_winchell@nps.gov.

FOR FURTHER INFORMATION CONTACT: Joshua Winchell, telephone number 202-641-4467, or email joshua_winchell@nps.gov.

SUPPLEMENTARY INFORMATION: The Committee is established under the authority of the Secretary and regulated by the Federal Advisory Committee Act (FACA), as amended (5 U.S.C. appendix 2). The Committee's duties are strictly advisory and consist of providing recommendations for implementation of Secretary's Order No. 3405—Addressing Derogatory Geographic Names.

Duties shall include, but are not limited to (1) recommending to the Secretary changes to existing Federal land unit names and additional terms that may be considered derogatory and identifying resources required to implement any resulting name changes; (2) recommending to the Secretary a process to solicit, encourage, and assist proposals to change derogatory geographic names; and (3) soliciting proposals to replace derogatory geographic features and Federal land unit names from Indian Tribes, appropriate State and local governments, affected Federal agencies and departments, and members of the public.

The term “Federal land unit” includes (1) National Forest System land; (2) a unit of the National Park System; (3) a component of the National Wilderness Preservation System; (4) any part of the National Landscape Conservation System; and (5) a unit of the National Wildlife Refuge System.

The Committee will meet approximately two to four times per year. The Committee will consist of no more than 17 discretionary members to be appointed by the Secretary of whom, to the extent practicable:

1. At least four will be members of an Indian Tribe;

2. At least one will represent a Tribal organization;

3. At least one will represent a Native Hawaiian organization;

4. At least four will have backgrounds in civil rights or race relations;

5. At least four will have expertise in anthropology, cultural studies, geography, or history; and

6. At least three will represent the general public.

Appointments will be on a staggered term basis for a term not to exceed 3 years.

Nominations must include a resume providing an adequate description of the nominee's qualifications, including information that would enable the Department to make an informed decision regarding meeting the membership requirements of the Committee and permit the Department to contact a potential member.

Members who are appointed to the Committee in their official capacity as Federal employees are subject to applicable Federal ethics statutes and regulations, to include applicable exceptions and exemptions.

Members of the Committee appointed as special Government employees (SGEs) are subject to applicable Federal ethics statutes and regulations, to include applicable exceptions and exemptions. Additionally, SGE members are required, prior to appointment and annually thereafter, to file a Confidential Financial Disclosure Report. SGE members are also required to receive initial ethics training prior to performing any Committee duties and to receive annual ethics training thereafter. The Department will provide materials to those members serving as SGEs, explaining their ethical obligations.

Non-Federal members of the Committee and subcommittees appointed as representatives are not subject to Federal ethics statutes and regulations. However, no non-Federal Committee or subcommittee members will participate in any Committee or subcommittee deliberations or votes relating to a specific party matter before the Department or its bureaus and offices including a lease, license, permit, contract, grant, claim, agreement, or litigation, in which the member or the entity the member represents has a direct financial interest.

Members serve without compensation. However, while away from their homes or regular places of business in the performance of services for the Committee as approved by the Designated Federal Officer, members may be allowed travel expenses, including per diem in lieu of subsistence.

In addition, the Committee will have ex-officio members including, but not limited to a Department of the Interior representative; a Department of Agriculture representative; a Department of Defense representative; and a Department of Commerce representative.

Public Disclosure of Information: Before including your address, phone number, email address, or other personal identifying information with your nomination, you should be aware that your entire nomination—including your personal identifying information—may be made publicly available at any time. While you can ask us in your nomination to withhold your personal identifying information from public review, we cannot guarantee that we will be able to do so.

Certification Statement: I hereby certify that the Advisory Committee on Reconciliation in Place Names is necessary, in the public interest, and is in connection with the performance of duties imposed on the Department of the Interior and in furtherance of the National Park Service Organic Act (54 U.S.C. 100101 et seq.), the Fish and Wildlife Act of 1956 (16 U.S.C. 742a), the Federal Land Policy and Management Act of 1976 (43 U.S.C. 1701), the National Wildlife Refuge System Improvement Act of 1997 (16 U.S.C. 668dd), and other Acts applicable to specific bureaus.

Authority: 5 U.S.C. appendix 2.

Dated: December 28, 2021.
Deb Haaland,
Secretary, Department of the Interior.

[FR Doc. 2022-00224 Filed 1-7-22; 8:45 am]

BILLING CODE 4312-52-P